DEPARTMENT OF THE INTERIOR

National Park Service

Environmental Statements; Availability, etc: Fallen Timbers Battlefield and Fort Miamis National Historic Site, OH; General Management Plan

AGENCY: National Park Service, Department of the Interior.

ACTION: Notice of Availability of the Final General Management Plan and Environmental Impact Statement for the Fallen Timbers Battlefield and Fort Miamis National Historic Site, Ohio.

SUMMARY: Pursuant to Section 102(2)(C) of the National Environmental Policy Act of 1969, 42 U.S.C. 4332(a)(c), the National Park Service (NPS) announces the availability of the Final General Management Plan and Environmental Impact Statement (GMP/EIS), Fallen Timbers Battlefield and Fort Miamis National Historic Site (the park).

DATES: The required no-action period on the Final GMP/EIS will expire 30 days after the Environmental Protection Agency has published a notice of availability in the Federal Register.

ADDRESSES: Copies of the Final GMP/EIS are available by request by writing to the Fallen Timbers Battlefield and Fort Miamis National Historic Site, c/o Director of Planning, Metropolitan Park District of the Toledo Area, 5100 West Central Avenue, Toledo, Ohio 43615-2100, by telephoning 419-270-7513 or by e-mail (james.speck@metroparkstoledo.com). The document is also available to be picked-up in person at Metropolitan Park District offices, 5100 West Central Avenue, Toledo, Ohio. The document can be found on the Internet in the NPS Planning, Environment, and Public Comment Web site at: (http://parkplanning.nps.gov/).

FOR FURTHER INFORMATION CONTACT: Mr. James Speck, Director of Planning, Metropolitan Park District of the Toledo Area, 5100 West Central Avenue, Toledo, Ohio, telephone 419-270-7513.

SUPPLEMENTARY INFORMATION: The Fallen Timbers Battlefield and Fort Miamis National Historic Site is an affiliated area of the national park system, managed by the Metropolitan Park District of the Toledo Area. The park consists of three units, the Fallen Timbers Battlefield, the Fallen Timbers State Monument, and Fort Miamis. The park commemorates an important period in the development of the United States and the opening of the northwest frontier. It represents the culminating event that demonstrated the tenacity of the American people in their quest for western expansion and the struggle for dominance in the Old Northwest Territory.

The purpose of the general management plan is to set forth the basic management philosophy for the park and to provide strategies for addressing issues and achieving identified management objectives. The GMP/EIS describes and analyzes the environmental impacts of the proposed action and two other action alternatives for the future management direction of the park. A no action alternative is also evaluated.

A notice of availability of the draft document was published in the Federal Register on March 31, 2004 (69 FR 16, 948). Public meetings to clarify the document and discuss any concerns were held at the Maumee Branch of the Toledo-Lucas County Public Library on March 10 and April 26, 2004. The local press, including television, radio and newspaper, were sent news releases of all public meetings and each meeting was reported on by these sources. In addition, advertisements of the meetings were placed in local daily and weekly newspapers. Written comments were accepted through May 31, 2004. The NPS considered all written comments in accordance with guidance provided by Director's Order 12 and the regulations of Council on Environmental Quality at 40 CFR part 1503. The local Congressional delegation was kept informed.

The Final GMP/EIS document responds to agency and public comments received on the draft document.

Dated: January 20, 2006.
Ernest Quintana,
Regional Director, Midwest Region.

[FR Doc. 06-1897 Filed 2-28-06; 8:45 am]

BILLING CODE 4310-70-M